FEDERAL ELECTION COMMISSION

11 CFR Parts 100, 104, and 113

[Notice 2001-13]

Brokerage Loans and Lines of Credit

AGENCY: Federal Election Commission.

ACTION: Cancellation of public hearing.

SUMMARY: On July 25, 2001, the Federal Election Commission published proposed rules on brokerage loans and lines of credit available to candidates. 66 FR 38576 (July 25, 2001). The Notice of Proposed Rulemaking stated that the Commission would hold a public hearing on September 19, 2001, if there were sufficient requests to testify by August 24, 2001. The Commission did not receive any requests to testify. Therefore, the Commission is canceling the public hearing.

FOR FURTHER INFORMATION CONTACT: Ms. Rosemary C. Smith, Assistant General Counsel, or Ms. Mai Dinh, Staff Attorney, 999 E Street, NW., Washington, DC 20463, (202) 694-1650 or (800) 424-9530.

Dated: September 5, 2001.
Danny L. McDonald,
Chairman, Federal Election Commission.

[FR Doc. 01-22663 Filed 9-10-01; 8:45 am]

BILLING CODE 6715-01-P